DEPARTMENT OF ENERGY

Federal Energy Regulatory Commission

Notice of Application for Amendment of License and Soliciting Comments, Motions to Intervene, and Protests

July 18, 2001.

Take notice that the following application has been filed with the Commission and is available for public inspection:

a. Application Type: Amendment of Recreation Plan.

b. Project No: 2916-047.

c. Date Filed: May 25, 2001.

d. Applicant: East Bay Municipal Utility District.

e. Name of Project: Lower Mokelumne River Project.

f. Location: The project is located on the Mokelumne River in Amador, Calaveras, and San Joaquin Counties, California.

g. Filed Pursuant to: Federal Power Act, 16 U.S.C. §§ 791(a), 825(r), and §§ 799 and 801.

h. Applicant Contact: Leo J. O'Brien, Senior Civil Engineer, Resources Planning Division, East Bay Municipal Utilities District, 375 Eleventh Street, Oakland, CA 94607-4240.

i. FERC Contact: Any questions on this notice should be addressed to Shana High at 202/208-2266.

j. Deadline for filing comments and or motions: August 24, 2001.

All documents (original and eight copies) should be filed with: David P. Boergers, Secretary, Federal Energy Regulatory Commission, 888 First Street, NE., Washington, DC 20426. Comments, protests and interventions may be filed electronically via the Internet in lieu of paper. See, 18 CFR 385.2001(a)(1)(iii) and the instructions on the Commission's web site under the “e-Filing” link.

k. Description of Request: Please include the specific project number (P-2916-047) on any comments or motions filed.

East Bay Municipal Utility District proposes to reconfigure some Camanche South Shore Recreation Area campgrounds by offering more space per campsite, modern restrooms, group campsites, and facilities for equestrians. The reconfiguration will reduce spaces at the cottonwood Campground and the District plans to add new campsites in other portions of the Camanche Recreation Area.

l. Locations of the Application: Copies of this filing are on file with the Commission and are available for public inspection. This filing may be viewed on the Commission's web site at http://www.ferc.gov using the “RIMS” link, select “Docket #” and follow the instructions ((202) 208-2222 for assistance).

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Acting Secretary.

[FR Doc. 01-18362 Filed 7-23-01; 8:45 am]

BILLING CODE 6717-01-M